DEPARTMENT OF LABOR

Occupational Safety and Health Administration

[Docket No. ICR-1218-0232(2002)]

Crawler, Locomotive and Truck Cranes, Inspection Records; Extension of the Office of Management and Budget's (OMB) Approval of Information-Collection (Paperwork) Requirements

AGENCY: Occupational Safety and Health Administration (OSHA), Labor.

ACTION: Request for comment.

SUMMARY: OSHA solicits public comment concerning its request to extend OMB approval of the information-collection requirements specified in paragraph (b)(2) of the Crawler, Locomotive, and Truck Crane in Construction Standard (29 CFR 1926.550); this paragraph requires employers to inspect and properly maintain crawler, locomotive, and truck cranes and to ensure safe operating conditions for employees.

DATES: Submit written comments on or before August 9, 2002.

ADDRESSES: Submit written comments to the Docket Office, Docket No. ICR-1218-0232(2002), OSHA, U.S. Department of Labor, Room N-2625, 200 Constitution Avenue, NW., Washington, DC 20210; telephone: (202) 693-2350. Commenters may transmit written comments of 10 pages or less by facsimile to: (202) 693-1648.

FOR FURTHER INFORMATION CONTACT: Kathleen M. Martinez, Directorate of Policy, Office of Regulatory Analysis, OSHA, U.S. Department of Labor, Room N-3641, 200 Constitution Avenue, NW., Washington, DC 20210, telephone: (202) 693-1953. A copy of the Agency's Information-Collection Request (ICR) supporting the need for the information collections specified by the Crawler, Locomotive and Trade Crane Standard is available for inspection and copying in the Docket Office, or by requesting a copy from Todd Owen at (202) 693-2444. For electronic copies of the ICR contact OSHA on the Internet at http://www.osha.gov/comp-links.html and select “Information Collection Requests.”

SUPPLEMENTARY INFORMATION:

I. Background

The Department of Labor, as part of its continuing effort to reduce paperwork and respondent (i.e., employer) burden, conducts a preclearance consultant program to provide the public with an opportunity to comment on proposed and continuing information-collection requirements in accordance with the Paperwork Reduction Act of 1995 (PRA-95) (44 U.S.C. 3506(c)(2)(A)). This program ensures that information is in the desired format, reporting burden (time and cost) is minimal, collection instruments are clearly understood, and OSHA's estimate of the information-collection burden is correct.

The Crawler, Locomotive and Truck Crane Standard (i.e., “the Standard”) specifies the following paperwork requirements, as well as how they use it.

Paragraph (b)(2) requires the employer to prepare and maintain a certification record which includes the date, listing of critical items inspected, signature of person performing the inspections, and a serial number or identifier of the crane inspected as specified in ANSI B30.5-1968, Safety Code for Crawler, Locomotive and Truck Cranes.

Establishing and maintaining written records of the monthly inspections informs employers and employees regarding serious, life threatening equipment failure.

II. Special Issues for Comment

OSHA has a particular interest in comments on the following issues:

• Whether the proposed information-collection requirements are necessary for the proper performance of the Agency's functions, including whether the information is useful;

• The accuracy of OSHA's estimate of the burden (time and cost) of the information-collection requirements, including the validity of the methodology and assumptions used;

• The quality, utility, and clarity of the information collected; and

• Ways to minimize the burden on employers who must comply; for example, by using automated or other technological information-collection and -transmission techniques.

III. Proposed Actions

OPSHA proposes to extend OMB's previous approval of the recordkeeping (paperwork) requirement specified in paragraph (b)(2) of the Crawler, Locomotive and Truck crane Standard (29 CFR 1926.550). OSHA is proposing to decrease the number of burden hours for the paperwork requirement specified by the Standard. This decrease is due to the increasing number of crawler, locomotive or truck cranes that are owned by rental companies which establish and maintain written records as a usual and customary business practice. The Agency will summarize the comments submitted in response to this notice, and will include this summary in its request to OMB to extend the approval of this information-collection requirement.

Type of Review: Extension of currently approved information-collection requirements.

Title: Crawler, Locomotive and Truck Crane Standard.

OMB Number: 1218-0232.

Affected Public: Business or other for-profit; not-for-profit institutions; Federal government; State, local or tribal governments.

Number of Respondents: 21,238.

Frequency of Response: Monthly.

Total Responses: 254,856.

Average Time per Response: 30 minutes.

Estimated Total Burden Hours: 127,428.

Estimated Cost (Operation and Maintenance): $0.

IV. Authority and Signature

John L Henshaw, Assistant Secretary of Labor of Occupational Safety and Health, directed the preparation of this notice. The authority for this notice is the Paperwork Reduction Act of 1995 (44 U.S.C. 3506) and Secretary of Labor's Order No. 3-2000 (65 FR 50017).

Signed at Washington, DC, on June 3rd, 2002.
John L. Henshaw,
Assistant Secretary of Labor.

[FR Doc. 02-14436 Filed 6-7-02; 8:45 am]

BILLING CODE 4510-26-M